FEDERAL DEPOSIT INSURANCE CORPORATION

Privacy Act of 1974, as Amended; Notice of Alteration of System of Records

AGENCY: Federal Deposit Insurance Corporation.

ACTION: Notice: Alteration of a system of records.

SUMMARY: In accordance with the Privacy Act of 1974, as amended, the Federal Deposit Insurance Corporation (“FDIC”) is altering one system of records, entitled Consumer Complaint and Inquiry Records (30-64-0005). We invite public comment on this publication.

DATES: Comments on the alteration of this system of records must be received by the FDIC on or before August 31, 2005. The alterations that are the subject of this notice will become effective 45 days following publication in the Federal Register, unless a superseding notice to the contrary is published before that date.

ADDRESSES: You may submit written comments by any of the following methods:

• Agency Web site: http://www.fdic.gov/regulations/laws/federal/propose.html. Follow instructions for submitting comments on this Web site.

• E-mail: comments@fdic.gov. Include “Consumer Complaint and Inquiry Records” in the subject line.

• Mail to: Frederick L. Fisch, Supervisory Counsel, Attention: Comments, FDIC, 550 17th Street, NW., Washington, DC 20429.

Instructions: All submissions should refer to “Consumer Complaint and Inquiry Records”. Comments may be posted without change to the FDIC internet site at http://www.fdic.gov/regulations/laws/federal/propose.html, including any personal information provided. Comments may also be inspected and photocopied in the FDIC Public Information Center, Room 100, 801 17th Street NW., Washington, DC 20429, between 9 a.m. and 4:30 p.m.

FOR FURTHER INFORMATION CONTACT: Fredrick L. Fisch, Supervisory Counsel, FOIA/Privacy Act Unit, FDIC, 550 17th Street, NW., Washington, DC, 20429, (202) 736-0526.

SUPPLEMENTARY INFORMATION: The system notice for the Consumer Complaint and Inquiry Records system is being altered to provide a more detailed description of the categories of agency records that are maintained in this system of records. This includes adding a reference to inquiries concerning deposit insurance coverage for depositors of FDIC-insured depository institutions. These inquiries comprise at least one-half of the records in this system. The current system notice is also being updated to reflect that this system of records is now managed by the FDIC's Division of Supervision and Consumer Protection (“DSC”) as successor to the FDIC's Division of Compliance and Consumer Affairs, which previously managed this system. The FDIC has amended the purpose clause of this system notice to accurately reflect the large number of deposit insurance inquiries and to more clearly state the FDIC's supervisory responsibilities. Finally, the retention period for records in this system of records is being extended from two to five years to provide a longer timeframe for DSC to perform trends analysis on the consumer data that is collected.

Accordingly, the system of records entitled Consumer Complaint and Inquiry Records (30-64-0005) is altered as follows:

30-64-0005

SYSTEM NAME:

Consumer Complaint and Inquiry Records.

SECURITY CLASSIFICATION:

None.

SYSTEM LOCATION:

The Division of Supervision and Consumer Protection, FDIC, 550 17th Street, NW., Washington, DC 20429 and the FDIC regional or area offices with supervisory authority over FDIC-insured depository institutions referred to in consumer complaints or inquiries. (See Appendix A for a list of the FDIC regional offices and their addresses.)

CATEGORIES OF INDIVIDUALS COVERED BY THE SYSTEM:

Individuals who have made inquiries concerning deposit insurance coverage or consumers who have submitted complaints or inquiries concerning the activities or practices of an FDIC-insured depository institution.

CATEGORIES OF RECORDS IN THE SYSTEM:

Contains records of correspondence and other communication between the FDIC and depositors who make inquiries concerning deposit insurance coverage or consumers who submit complaints or inquiries relative to the activities or practices of FDIC-insured depository institutions. Information contained in this system of records includes the following: The depositor or consumer's name; the name of the FDIC-insured depository institution subject to the inquiry or complaint; the case number assigned to the inquiry or complaint; the subject matter of the inquiry or complaint; the FDIC office and personnel assigned to review the inquiry or complaint; the status of the FDIC's investigation into the inquiry or complaint; and the FDIC's response to the inquiry or complaint. Supporting records may include, but are not limited to, documents supplied by the depositor or consumer, correspondence between the FDIC and the FDIC-insured depository institution subject to the inquiry or complaint and, when applicable, correspondence between the FDIC and other federal or state regulatory or law enforcement agencies.

AUTHORITY FOR MAINTENANCE OF THE SYSTEM:

Section 9 of the Federal Deposit Insurance Act (12 U.S.C. 1819); Section 202(f) of Title II of the Federal Trade Improvement Act (15 U.S.C. 57a(f)); and Executive Order 12160.

PURPOSE(S):

The system of records is used to facilitate the management of correspondence and other communication from depositors who make inquiries concerning deposit insurance coverage or consumers with inquiries or complaints concerning the activities or practices of FDIC-insured depository institutions. The information in this system supports the FDIC's statutory authority to insure the deposits of financial institutions and to supervise the activities or practices of FDIC-insured state nonmember banks and the insured state branches of foreign banks.

ROUTINE USES OF RECORDS MAINTAINED IN THE SYSTEM, INCLUDING CATEGORIES OF USERS AND THE PURPOSES OF SUCH USES:

Information in the system may be disclosed:

(1) To the insured depository institution which is the subject of the inquiry or complaint when necessary to investigate or resolve the inquiry or complaint;

(2) To authorized third-party sources during the course of the investigation in order to resolve the inquiry or complaint. Information that may be disclosed under this routine use is limited to the name of the inquirer or complainant and the nature of the inquiry or complaint and such additional information necessary to investigate the inquiry or complaint;

(3) To the Federal or State supervisory/regulatory authority that has direct supervision over the insured depository institution that is the subject of the inquiry or complaint;

(4) To the appropriate Federal, State, or local agency or authority responsible for investigating or prosecuting a violation of, or for enforcing or implementing a statute, rule, regulation, or order issued, when the information indicates a violation or potential violation of law, whether civil, criminal, or regulatory in nature, and whether arising by general statute or particular program statute, or by regulation, rule, or order issued pursuant thereto;

(5) To a court, magistrate, or administrative tribunal in the course of presenting evidence, including disclosures to counsel or witnesses in the course of civil discovery, litigation, or settlement negotiations or in connection with criminal proceedings, when the FDIC is a party to the proceeding or has a significant interest in the proceeding, to the extent that the information is determined to be relevant and necessary;

(6) To a congressional office in response to an inquiry made by the congressional office at the request of the individual to whom the record pertains; and

(7) To a consultant, person or entity who contracts or subcontracts with the FDIC, to the extent necessary for the performance of the contract or subcontract. The recipient of the records shall be required to comply with the requirements of the Privacy Act of 1974, as amended (5 U.S.C. 552a).

POLICIES AND PRACTICES FOR STORING, RETRIEVING, ACCESSING, RETAINING, AND DISPOSING OF RECORDS IN THE SYSTEM:

STORAGE:

Records are stored in electronic media and sometimes in paper format within individual file folders.

RETRIEVABILITY:

Electronic media and paper records are indexed and retrieved by unique identification number which may be cross referenced to the name of complainant or inquirer.

SAFEGUARDS:

Electronic records are password protected and accessible only by authorized personnel. Paper records are maintained in lockable metal file cabinets accessible only to authorized personnel.

RETENTION AND DISPOSAL:

Paper records and electronic media are retained for five years after receipt in accordance with the FDIC Records Retention and Disposition Schedule.

SYSTEM MANAGER(S) AND ADDRESS:

Chief, Consumer Affairs Branch, Division of Supervision and Consumer Protection, FDIC, 550 17th Street, NW., Washington, DC 20429.

NOTIFICATION PROCEDURE:

Individuals wishing to determine if they are named in this system of records or who are seeking access to records maintained in this system of records must submit their request in writing to the Legal Division, FOIA/PA Unit, FDIC, 550 17th Street, NW., Washington, DC 20429. The request must contain the name and address of the complainant or inquirer and the name and address of the insured depository institution that is the subject of the inquiry or complaint. Individuals requesting their own records must provide their name, address and a notarized statement attesting to their identity.

RECORD ACCESS PROCEDURES:

See “Notification procedure” above.

CONTESTING RECORD PROCEDURES:

See “Notification procedure” above. Individuals wishing to contest or amend information maintained in this system of records should specify the information being contested, their reasons for contesting it, and the proposed amendment to such information.

RECORD SOURCE CATEGORIES:

The sources of records in this category include depositors who make inquiries concerning deposit insurance coverage and consumers with inquiries or complaints concerning the activities or practices of FDIC-insured depository institutions; depository institutions insured by the FDIC that are the subject of an inquiry or complaint; state or federal agencies with supervisory or law enforcement authority over an FDIC-insured depository institution; congressional offices that may facilitate the inquiry or complaint; and other parties providing information to the FDIC in an attempt to facilitate an inquiry or resolve the complaint.

EXEMPTIONS CLAIMED FOR THE SYSTEM:

None.

Dated at Washington, DC, this 19th day of July, 2005.
By order of the Board of Directors.
Federal Deposit Insurance Corporation.
Robert E. Feldman,
Executive Secretary.

[FR Doc. 05-15108 Filed 7-29-05; 8:45 am]

BILLING CODE 6714-01-P